Proclamation 9920 of August 30, 2019

Labor Day, 2019

By the President of the United States of America

A Proclamation

On Labor Day, we recognize the remarkable American workers who comprise the greatest labor force in the world. American workers are the heart and soul of our Nation's economic resurgence. Since my first day in office, I have followed through on my promise to fight for an agenda that puts American workers first.

My Administration's pro-growth policies have enabled countless Americans to reclaim the dignity of work and reap the rewards of our thriving economy. Since my election, the American economy has added more than 6 million new jobs, and for the past 17 months, the unemployment rate has held near record lows. In 2017, as the unemployment rate decreased, the rates of injuries and illnesses in the workplace also declined. Additionally, employers are paying higher wages, which are rising at the fastest pace in a decade. Jobs are consistently becoming available faster than people can fill them.

As the 21st century global economy evolves, my Administration is making it a priority to prepare the American workforce of tomorrow. Last year, I signed an Executive Order establishing the President's National Council for the American Worker to ensure that students and workers have access to the affordable, practical, and innovative education and job training they need to be successful across high-demand industries. We are asking companies to sign our Pledge to America's Workers and commit to expanding programs that educate, train, or re-skill employees. In July, as of the 1-year anniversary of our pledge, more than 300 companies and organizations had already joined us in this effort, committing to more than 12 million new education and training opportunities for American students and workers. We are also promoting expanded access to apprenticeships through the Industry-Recognized Apprenticeship Program, which will enable associations, unions, educational institutions, and non-profit organizations to partner and create exceptional opportunities for apprentices to earn and learn through their careers. Additionally, we are seeking to expand Pell Grant program eligibility for high-quality, short-term education and training programs in popular career fields.

My Administration has been working tirelessly to renegotiate one-sided trade agreements to obtain fairer terms for American companies and workers. With the signing of the United States-Mexico-Canada Agreement (USMCA), we took bold and needed action to replace the outdated and unbalanced North American Free Trade Agreement. Once approved by the Congress, the USMCA will support higher-paying jobs for American workers by enhancing the freedom of all American businesses across all sectors of our economy. We also significantly updated one of our most consequential trade deals, the United States-Korea Free Trade Agreement, bringing real benefits to American workers. And we are aggressively enforcing the well-established trade laws of the United States to protect American workers and businesses from unfair trade practices that harm them.

Today, we honor those Americans whose contributions have turned our country into an economic powerhouse, and we renew our commitment to create an environment that continues to foster and promote opportunity.

NOW, THEREFORE, I, DONALD J. TRUMP, President of the United States of America, by virtue of the authority vested in me by the Constitution and the laws of the United States, do hereby proclaim September 2, 2019, as Labor Day. I call upon all public officials and people of the United States to observe this day with appropriate programs, ceremonies, and activities that honor the contributions and resilience of working Americans.

IN WITNESS WHEREOF, I have hereunto set my hand this thirtieth day of August, in the year of our Lord two thousand nineteen, and of the Independence of the United States of America the two hundred and forty-fourth.

[FR Doc. 2019-19366

Filed 9-4-19; 11:15 am]

Billing code 3295-F9-P